FEDERAL ELECTION COMMISSION

Sunshine Act Notice

AGENCY: Federal Election Commission.

DATE AND TIME: Thursday, April 7, 2011 at 10 a.m.

PLACE: 999 E Street, NW., Washington, DC (Ninth Floor).

STATUS: This meeting will be open to the public.

Items To Be Discussed

Correction and Approval of the Minutes for the Meeting of March 16, 2011.

Draft Advisory Opinion 2011-03: Democratic Senatorial Campaign Committee, National Republican Congressional Committee, Republican National Committee, Democratic Congressional Campaign Committee, and National Republican Senatorial Committee by Marc E. Elias, Esq., Jessica Furst, Esq., John Phillippe, Esq., Brian G. Svoboda, Esq., and Michael E. Toner, Esq.

Draft Advisory Opinion 2011-04: American Israel Public Affairs Committee by Philip Friedman, Esq.

Proposed Final Audit Report on Tennessee Democratic Party (A07-07).

Management and Administrative Matters.

Individuals who plan to attend and require special assistance, such as sign language interpretation or other reasonable accommodations, should contact Shawn Woodhead Werth, Commission Secretary and Clerk, at (202) 694-1040, at least 72 hours prior to the hearing date.

PERSON TO CONTACT FOR INFORMATION: Judith Ingram, Press Officer, Telephone: (202) 694-1220.

Shawn Woodhead Werth,
Secretary and Clerk of the Commission.

[FR Doc. 2011-8068 Filed 3-31-11; 4:15 pm]

BILLING CODE 6715-01-P